NATIONAL LABOR RELATIONS BOARD

Public Availability of National Labor Relations Board's FY 2011 Service Contract Inventory

AGENCY: National Labor Relations Board.

ACTION: Notice of public availability of FY 2011 Service Contract inventories.

SUMMARY: In accordance with Section 743 of Division C of the Consolidated Appropriations Act of 2010 (Pub. L. 111-117), the National Labor Relations Board (NLRB) is publishing this notice to advise the public of the availability of the FY 2011 Service Contract inventory. This inventory provides information on service contract actions over $25,000 that were made in FY 2011. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The NLRB has posted its inventory and a summary of the inventory on the NLRB homepage at the following link: http://www.nlrb.gov/service-contract-inventories.

FOR FURTHER INFORMATION CONTACT: Questions regarding the service contract inventory should be directed to David Graham in the Acquisitions Management Branch at (202) 273-4047 or david.graham@nlrb.gov.

Dated: January 26, 2012.
By Direction of the Board.
Lester A. Heltzer,
Executive Secretary.

[FR Doc. 2012-2136 Filed 1-31-12; 8:45 am]

BILLING CODE 7545-01-P